ENVIRONMENTAL PROTECTION AGENCY

[EPA-HQ-OECA-2005-0045; FRL-8034-5]

Agency Information Collection Activities; Submission for OMB Review and Approval; Comment Request; NSPS for Hot Mix Asphalt Facilities (Renewal); ICR Number 1127.08, OMB Number 2060-0083

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on April 30, 2006. Under OMB regulations, the Agency may continue to conduct or sponsor the collection of information while this submission is pending at OMB. This ICR describes the nature of the information collection and its estimated burden and cost.

DATES: Additional comments may be submitted on or before March 23, 2006.

ADDRESSES: Submit your comments, referencing docket ID number EPA-HQ-OECA-2005-0045, to (1) EPA online using http://www.regulations.gov (our preferred method), by e-mail to docket.oeca@epa.gov, or by mail to: EPA Docket Center (EPA/DC), Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé;, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On May 6, 2005 (70 FR 24020), EPA sought comments on this ICR pursuant to 5 CFR 1320.8(d). EPA received no comments.

EPA has established a public docket for this ICR under Docket ID Number EPA-HQ-OECA-2005-0045, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available at http://www.regulations.gov. Use http://www.regulations.gov to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in http://www.regulations.gov as EPA receives them and without change, unless the comment contains copyrighted material, Confidential Business Information (CBI), or other information whose public disclosure is restricted by statute. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statute, is not included in the official public docket, and will not be available for public viewing in http://www.regulations.gov. For further information about the electronic docket, see EPA's Federal Register notice describing the electronic docket at 67 FR 38102 (May 31, 2002), or go to http://www.regulations.gov.

Title: NSPS for Hot Mix Asphalt Facilities (Renewal).

Abstract: The New Source Performance Standards (NSPS) for the regulations published at 40 CFR part 60, subpart I were proposed on June 11, 1973, and promulgated on July 25, 1977. These regulations apply to hot mix asphalt facilities comprised only of a combination of the following: Dryers; systems for screening, handling, storing, and weighing hot aggregate; systems for loading, transferring, and storing mineral filler; systems for mixing hot mix asphalt; and the loading, transfer, and storage systems associated with emission control systems.

In general, all NSPS standards require initial notifications, performance tests, and periodic reports. Owners or operators of the affected facilities described must make the following one-time-only reports: Notification of the date of construction or reconstruction; notification of the anticipated and actual dates of startup; notification of any physical or operational change to an existing facility which may increase the regulated pollutant emission rate; notification of the date of the initial performance test; and the results of the initial performance test. Owners or operators are also required to maintain records of the occurrence and duration of any startup, shutdown, or malfunction in the operation of an affected facility, or any period during which the monitoring system is inoperative. In general, these notifications, reports and records are required of all sources subject to NSPS.

This information is being collected to assure compliance with 40 CFR part 60, subpart I. Any owner or operator subject to the provisions of this part will maintain a file of these records, and retain the file for at least two years following the date of such records. The reporting requirements for this industry currently include only the initial notifications and initial performance test report listed above. All reports are sent to the delegated state or local authority. In the event that there is no such delegated authority, the reports are sent directly to the EPA regional office. An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 4 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Hot mix asphalt facilities.

Estimated Average Number of Respondents: 4,010.

Frequency of Response: Initially, on occasion.

Estimated Total Annual Hour Burden: 17,318 hours.

Estimated Total Annual Costs: $1,411,959, which includes $0 annualized capital/startup costs, $0 annual O&M costs, and $1,411,959 annual labor costs.

Changes in the Estimates: There is an increase in burden of 7,015 hours from the most recently approved ICR, due primarily to the assumption that there will be approximately 105 new sources each year that will become subject to this rule and, therefore, will be required to submit the appropriate notifications and conduct performance tests. As in the active ICR, we have assumed that there will be a number of existing sources (i.e., 140 facilities) conducting modifications of their facilities and, therefore, will be required to submit appropriate notifications and conduct performance tests.

There are no annualized capital and operations and maintenance costs for this ICR because the rule does not require the use of continuous emission monitoring equipment, as stated in the active ICR.

The use of updated higher labor rates and the inclusion of managerial and clerical labor categories in the burden calculation also affected both industry and the Federal government costs for complying with the recordkeeping and reporting requirements of the rule. We also deleted any burden associated with the Agency conducting inspection activities, such as travel costs and labor burden, which are activities that are exempt under the Paperwork Reduction Act. These changes resulted in a decrease in the Federal Government burden even when the number of sources submitting reports increased significantly, as discussed above.

Dated: February 7, 2006.
Oscar Morales,
Director, Collection Strategies Division.

[FR Doc. E6-2408 Filed 2-17-06; 8:45 am]

BILLING CODE 6560-50-P